FEDERAL COMMUNICATIONS COMMISSION

Deletion of Item From Sunshine Act Meeting

September 25, 2018.

The following item has been deleted from the list of items scheduled for consideration at the Wednesday, September 26, 2018, Open Meeting and previously listed in the Commission's Notice of September 19, 2018.

6 | MEDIA | Title: Implementation of Section 621(a)(1) of the Cable Communications Policy Act of 1984 as Amended by the Cable Television Consumer Protection and Competition Act of 1992 (MB Docket No. 05-311). Summary: The Commission will consider a Second Further Notice of Proposed Rulemaking addressing two issues raised by a remand from the U.S. Court of Appeals for the Sixth Circuit concerning how local franchising authorities may regulate incumbent cable operators and cable television services.

Federal Communications Commission.
Marlene Dortch,
Secretary.

[FR Doc. 2018-22386 Filed 10-10-18; 4:15 pm]

BILLING CODE 6712-01-P